DEPARTMENT OF TRANSPORTATION

Federal Aviation Administration

14 CFR Part 71

[Docket No. FAA-2012-1296; Airspace Docket No. 09-AWA-1]

RIN 2120-AA66

Modification of Class B Airspace; Minneapolis, MN

AGENCY: Federal Aviation Administration (FAA), DOT.

ACTION: Final rule.

SUMMARY: This action amends the Minneapolis, MN, Class B airspace area to contain large turbine-powered aircraft conducting published instrument procedures at the Minneapolis-St. Paul International Airport (MSP), MN, within Class B airspace. The FAA is taking this action to ensure containment of aircraft being vectored to and conducting dual Simultaneous Instrument Landing System (SILS) approaches to parallel Runways 12L/R and 30L/R; aircraft being vectored to and conducting approaches to Runway 35; and, aircraft being re-sequenced from approaches to Runway 35 to approaches to Runway 30L. This action supports the FAA's national airspace redesign goal of optimizing terminal and en route airspace areas to enhance safety, improving the flow of air traffic, and reducing the potential for near midair collision in terminal airspace areas.

DATES: Effective Date: 0901 UTC, January 9, 2014. The Director of the Federal Register approves this incorporation by reference action under 3 CFR part 51, subject to the annual revision of FAA Order 7400.9 and publication of conforming amendments.

FOR FURTHER INFORMATION CONTACT: Colby Abbott, Airspace Policy and ATC Procedures Group, Office of Airspace Services, Federal Aviation Administration, 800 Independence Avenue SW., Washington, DC 20591; telephone: (202) 267-8783.

SUPPLEMENTARY INFORMATION:

History

On February 14, 2013, the FAA published in the Federal Register a notice of proposed rulemaking (NPRM) to modify the Minneapolis Class B airspace area (78 FR 10564). This action proposed to expand the lateral boundaries and lower portions of the Minneapolis Class B airspace to contain large turbine-powered aircraft flying dual SILS procedures and associated traffic patterns to Runways 12L/R and 30L/R, flying instrument procedures and associated traffic patterns to Runway 35, and re-sequencing these aircraft from flying instrument procedures to Runway 35 to instrument procedures to Runway 30L within Class B airspace. Interested parties were invited to participate in this rulemaking effort by submitting written comments on the proposed action. No comments were received in response to the notice.

The Rule

The FAA is amending Title 14 of the Code of Federal Regulations (14 CFR) part 71 by modifying the Minneapolis, MN, Class B airspace area. This action (depicted on the chart in Figure 1—Modification of the Minneapolis, MN Class B Airspace Area) modifies the lateral and vertical limits of the Class B airspace to ensure the containment of large turbine-powered aircraft and enhance safety in the Minneapolis terminal area. The Class B airspace extensions, located northwest and southeast of MSP, are expanded by approximately one nautical mile (NM) further southwest. Several portions of Class B airspace, located west, northwest, and east of MSP, that are adjacent to the Class B airspace extensions are lowered by 1,000 feet to 6,000 feet MSL. There are several changes to the Class B airspace area that is located south-southeast of MSP. Its outer boundary is realigned by one NM from the Minneapolis-St. Paul International (Wold-Chamberlain) Airport Distance Measuring Equipment (DME) Antenna (I-MSP DME) 25 NM arc to the 24 NM arc. It is lowered by 1,000 feet to 6,000 feet MSL and combined with the adjacent Class B airspace area located south of MSP. Additionally, the Class B airspace boundary segment described by the Gopher VHF omnidirectional range (VOR)/tactical air navigation (VORTAC) (GEP) 160° radial is moved to the GEP 158° radial. These modifications provide the minimum additional airspace necessary to contain large turbine-powered aircraft conducting instrument procedures within Class B airspace.

Except for Areas A through C, which are unchanged by this action, the remaining Minneapolis Class B airspace subareas are reconfigured and realigned by geographic position in relation to the I-MSP DME antenna. This action modifies three of the six original subareas (D through F) and adds four new subareas (G through J). The specific modifications to the Minneapolis, MN Class B airspace area are outlined below.

Area A. Area A is the surface area that extends upward from the surface to 10,000 feet MSL. The FAA is not modifying Area A.

Area B. Area B extends upward from 2,300 feet MSL to 10,000 feet MSL. The FAA is not modifying Area B.

Area C. Area C extends upward from 3,000 feet MSL to 10,000 feet MSL. The FAA is not modifying Area C.

Area D. Area D extends upward from 4,000 feet MSL to 10,000 feet MSL. The southern boundary of the extensions in this area are expanded approximately 1 NM further southwest. This modification ensures aircraft flying the southern traffic pattern downwind legs for Runway 12R and 30L instrument procedures are contained within Class B airspace.

Area E. Area E extends upward from 6,000 feet MSL to 10,000 feet MSL between the GEP 295° radial clockwise to the GEP 352° radial and the 20 NM to 30 NM arcs from the I-MSP DME. The lower Class B airspace floor in this area ensures large turbine-powered aircraft that require longer distances to descend for sequencing to SILS procedures to Runways 12L/R are contained within Class B airspace.

Area F. Area F extends upward from 7,000 feet MSL to 10,000 feet MSL between the GEP 085° radial clockwise to the GEP 105° radial and the 20 NM to 30 NM arcs from the I-MSP DME. The FAA is not modifying the Class B airspace in this area.

Area G. Area G extends upward from 6,000 feet MSL to 10,000 feet MSL between the GEP 105° radial clockwise to the GEP 115° radial and the 20 NM to 30 NM arcs from the I-MSP DME. The lower Class B airspace floor in this area ensures large turbine-powered aircraft that require longer distances to descend for sequencing to SILS procedures to Runways 30L/R are contained within Class B airspace.

Area H. Area H extends upward from 6,000 feet MSL to 10,000 feet MSL. This new subarea realigns a segment of the boundary from the GEP 160° radial to the GEP 158° radial, realigns a second segment of the boundary from the I-MSP DME 25 NM arc to the I-MSP DME 24 NM arc, and lowers the Class B airspace floor throughout the area to ensure large turbine-powered aircraft flying instrument procedures to Runway 35, as well as aircraft re-sequenced from Runway 35 to Runway 30L instrument procedures, are contained within Class B airspace.

Area I. Area I extends upward from 7,000 feet MSL to 10,000 feet MSL between the GEP 170° radial clockwise to the Flying Cloud VOR/DME navigation aid (FCM) 270° radial and the 20 NM to 30 NM arcs from the I-MSP DME. The FAA is not modifying the Class B airspace in this area.

Area J. Area J extends upward from 6,000 feet MSL to 10,000 feet MSL between the FCM 270° radial clockwise to the FCM 294° radial and the 20 NM to 30 NM arcs from the I-MSP DME. The lower Class B airspace floor in this area ensures large turbine-powered aircraft that require longer distances to descend for sequence to SILS approaches to Runways 12L/R are contained within Class B airspace.

Finally, this action updates the Minneapolis-St. Paul International (Wold-Chamberlain) Airport airport reference point (ARP), the Gopher VORTAC, the Flying Cloud VOR/DME, and the Minneapolis-St. Paul International (Wold-Chamberlain) Airport DME antenna geographic coordinates (latitude/longitude) to reflect current NAS data is reflected in the Minneapolis Class B airspace area legal description header. All radials listed in the Minneapolis Class B airspace area description in this rule are stated in degrees relative to True North. All geographic coordinates are stated in degrees, minutes, and seconds based on North American Datum 83.

Implementation of these modifications to the Minneapolis Class B airspace area ensure containment of large turbine-powered aircraft within Class B airspace as required by FAA directives to enhance safety and efficient management of aircraft operations in the Minneapolis terminal area.

Class B airspace areas are published in paragraph 3000 of FAA Order 7400.9X, Airspace Designations and Reporting Points, dated August 7, 2013, and effective September 15, 2013, which is incorporated by reference in 14 CFR 71.1. The Class B airspace area listed in this document would be published subsequently in the Order.

Regulatory Evaluation Summary

Changes to Federal regulations must undergo several economic analyses. First, Executive Order 12866 and Executive Order 13563 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995).

This portion of the preamble summarizes the FAA's analysis of the economic impacts of this final rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this final rule. The reasoning for this determination follows:

This action modifies the Minneapolis, MN, Class B airspace area to contain large turbine-powered aircraft conducting published instrument procedures within Class B airspace, and reduce the potential for midair collisions. Given the former boundaries and changes in MSP traffic flows and aircraft descent profiles since the last restructuring, instrument flight rules (IFR) flights were not contained within Class B airspace. This amendment restructures the airspace to ensure containment of these aircraft within Class B airspace, which will reduce the potential for midair collisions in the terminal area. The amendment will also reduce controller workload by reducing the number of Class B airspace excursions. The restructuring accommodates aircraft approaches on flight paths that were close to the Class B airspace boundaries, by moving these boundaries slightly. Also, since the last restructuring of the airspace, the fleet mix has changed from more rapidly descending aircraft to turbojets with more “efficient wings” which require a longer time to descend. To better contain these new turbojets, the amendment lowers the floor of the Class B airspace in the areas where arriving aircraft currently drop beneath the floor of Class B airspace so they will be contained. The original Class B airspace design did not contain a portion of one of the Final Approach Courses (FACs) within the existing Class B airspace and consequently aircraft traveling along this FAC exit Class B airspace for part of the descent. The final rule moves the Class B boundary and lowers the floor in this portion of the airspace so that aircraft using this FAC will be contained within Class B airspace.

The FAA expects that these changes will have little impact on Visual Flight Rules (VFR) traffic as VFR aircraft will have the alternatives of flying under or over the redesigned Class B or through it with clearance from air traffic control. The Ad Hoc Committee which was formed to review the Class B airspace proposal and provide feedback to the FAA reported most of the proposed changes would have little or no impact on the aviation community they represented, including non-participating VFR aircraft, with the exception of the cutout near Stanton Airfield. The committee did however indicate the proposed modifications would impact the Minnesota Soaring Club and Stanton Sport Aviation operations and provided six recommendations to alleviate the potential impact. Additionally, the FAA held several fact finding informal airspace meetings. As a result of the Ad Hoc Committee and informal airspace meeting inputs, the FAA incorporated those recommendations and comments that supported containment of IFR traffic within Class B airspace with an expected minimal impact on non-participatory VFR operations. The FAA anticipates that these modifications will continue to allow sufficient airspace for VFR operations in the vicinity of the Minneapolis Class B airspace area.

In the NPRM, the FAA found that the expected outcome would be a minimal impact with positive net benefits, and a full regulatory evaluation was not prepared. The FAA requested comments with supporting justification about the FAA determination of minimal impact in the NPRM. The FAA received no comments on the minimal cost determination.

Therefore, the FAA has determined that this final rule is not a “significant regulatory action” as defined in section 3(f) of Executive Order 12866, and is not “significant” as defined in DOT's Regulatory Policies and Procedures.

Final Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

This final rule is expected to improve safety by redefining Class B airspace boundaries and will impose only minimal costs. This final rule is expected to cause little impact on VFR traffic. VFR traffic that might have been flying in airspace that will be re-designated as Class B airspace will continue to have the option of flying above or below the proposed Class B airspace or obtaining clearance to fly through. This final amendment will not require updating of materials outside the normal update cycle. Therefore, the expected outcome will be a minimal economic impact on small entities affected by this rulemaking action.

In the NPRM, the FAA certified that the proposed rule, if promulgated, would not have a significant impact on a substantial number of small entities. The FAA solicited comments regarding this determination. The FAA received no comments regarding this determination.

If an agency determines that a rulemaking will not result in a significant economic impact on a substantial number of small entities, the head of the agency may so certify under section 605(b) of the RFA. Therefore, as provided in section 605(b), the head of the FAA certifies that this rulemaking will not result in a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA assessed the potential effect of this proposed rule, in the NPRM, and determined that it would have only a domestic impact and therefore no effect on international trade.

The FAA received no comments on this determination. Therefore, the FAA determines that this final rule will have only a domestic impact and therefore no effect on international trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million.

This final rule does not contain such a mandate. Therefore, the requirements of Title II of the Act do not apply.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9X, Airspace Designations and Reporting Points, dated August 7, 2013, and effective September 15, 2013, is amended as follows:

Paragraph 3000 Subpart B—Class B Airspace

* * * * *

AGL MN B Minneapolis, MN [Amended]

Minneapolis-St. Paul International (Wold-Chamberlain) Airport (Primary Airport)

(Lat. 44°52′55″ N., long. 93°13'18″ W.)

Gopher VORTAC

(Lat. 45°08′44″ N., long. 93°22'23″ W.)

Flying Cloud VOR/DME

(Lat. 44°49′31″ N., long. 93°26'34″ W.)

Minneapolis-St. Paul International (Wold-Chamberlain) Airport DME Antenna (I-MSP DME)

(Lat. 44°52′27″ N., long. 93°12'21″ W.)

Boundaries

Area A. That airspace extending upward from the surface to and including 10,000 feet MSL within a 6 NM radius of I-MSP DME.

Area B. That airspace extending upward from 2,300 feet MSL to and including 10,000 feet MSL within an 8.5 NM radius of I-MSP DME, excluding Area A previously described.

Area C. That airspace extending upward from 3,000 feet MSL to and including 10,000 feet MSL within a 12 NM radius of I-MSP DME, excluding Area A and Area B previously described.

Area D. That airspace extending upward from 4,000 feet MSL to and including 10,000 feet MSL within an area bounded by a line beginning at the intersection of the 20 NM arc of the I-MSP DME and the Gopher VORTAC 301° radial; thence clockwise along the 20 NM arc of the I-MSP DME to the Gopher VORTAC 121° radial; thence southeast along the Gopher VORTAC 121° radial to the 30 NM arc of the I-MSP DME; thence clockwise along the 30 NM arc of the I-MSP DME to the Flying Cloud VOR/DME 124° radial; thence northwest along the Flying Cloud VOR/DME 124° radial to the 20 NM arc of the I-MSP DME; thence clockwise along the 20 NM are of the I-MSP DME to the Flying Cloud VOR/DME 295° radial; thence northwest along the Flying Cloud VOR/DME 295° radial to the 30 NM arc of the I-MSP DME; thence clockwise along the 30 NM arc of the I-MSP DME to the Gopher VORTAC 301° radial; thence southeast along the Gopher VORTAC 301° radial to the point of beginning, excluding Area A, Area B, and Area C previously described.

Area E. That airspace extending upward from 6,000 feet MSL to and including 10,000 feet MSL within an area bounded by a line beginning at the intersection of the 20 NM arc of the I-MSP DME and the Gopher VORTAC 301° radial; thence clockwise along the 20 NM arc of the I-MSP DME to the Gopher VORTAC 358° radial; thence north along the Gopher VORTAC 358° radial to the 30 NM arc of the I-MSP DME; thence counterclockwise along the 30 NM arc of the I-MSP DME to the Gopher VORTAC 301° radial; thence southeast along the Gopher VORTAC 301° radial to the point of beginning.

Area F. That airspace extending upward from 7,000 feet MSL to and including 10,000 feet MSL within an area bounded by a line beginning at the intersection of the 20 NM arc of the I-MSP DME and the Gopher VORTAC 091° radial; thence clockwise along the 20 NM arc of the I-MSP DME to the Gopher VORTAC 111° radial; thence southeast along the Gopher VORTAC 111° radial to the 30 NM arc of the I-MSP DME; thence counterclockwise along the 30 NM arc of the I-MSP DME to the Gopher VORTAC 091° radial; thence west along the Gopher VORTAC 091° radial to the point of beginning.

Area G. That airspace extending upward from 6,000 feet MSL to and including 10,000 feet MSL within an area bounded by a line beginning at the intersection of the 20 NM arc of the I-MSP DME and the Gopher VORTAC 111° radial; thence clockwise along the 20 NM arc of the I-MSP DME to the Gopher VORTAC 121° radial; thence southeast along the Gopher VORTAC 121° radial to the 30 NM arc of the I-MSP DME; thence counterclockwise along the 30 NM arc of the I-MSP DME to the Gopher VORTAC 111° radial; thence northwest along the Gopher VORTAC 111° radial to the point of beginning.

Area H. That airspace extending upward from 6,000 feet MSL to and including 10,000 feet MSL within an area bounded by a line beginning at the intersection of the 20 NM arc of the I-MSP DME and the Flying Cloud VOR/DME 124° radial; thence clockwise along the 20 NM arc of the I-MSP DME to the Gopher VORTAC 176° radial; thence south along the Gopher VORTAC 176° radial to the 30 NM arc of the I-MSP DME; thence counterclockwise along the 30 NM arc of the I-MSP DME to the Gopher VORTAC 164° radial; thence north along the Gopher VORTAC 164° radial to the 24 NM arc of the I-MSP DME; thence counterclockwise along the 24 NM arc of the I-MSP DME to the Flying Cloud VOR/DME 124° radial; thence northwest along the Flying Cloud VOR/DME 124° radial to the point of beginning.

Area I. That airspace extending upward from 7,000 feet MSL to and including 10,000 feet MSL within an area bounded by a line beginning at the intersection of the 20 NM arc of the I-MSP DME and the Gopher VORTAC 176° radial; thence clockwise along the 20 NM arc of the I-MSP DME to the Flying Cloud VOR/DME 271° radial; thence west along the Flying Cloud VOR/DME 271° radial to the 30 NM arc of the I-MSP DME; thence counterclockwise along the 30 NM arc of the I-MSP DME to the Gopher VORTAC 176° radial; thence north along the Gopher VORTAC 176° radial to the point of beginning.

Area J. That airspace extending upward from 6,000 feet MSL to and including 10,000 feet MSL within an area bounded by a line beginning at the intersection of the 20 NM arc of the I-MSP DME and the Flying Cloud VOR/DME 271° radial; thence clockwise along the 20 NM arc of the I-MSP DME to the Flying Cloud VOR/DME 295° radial; thence northwest along the Flying Cloud VOR/DME 295° radial to the 30 NM arc of the I-MSP DME; thence counterclockwise along the 30 NM arc of the I-MSP DME to the Flying Cloud 271° radial; thence east along the Flying Cloud 271° radial to the point of beginning.

Issued in Washington, DC, on September 25, 2013.
Gary A. Norek,
Manager, Airspace Policy and ATC Procedures Group.

BILLING CODE 4910-13-P

[FR Doc. 2013-24983 Filed 10-24-13; 8:45 am]

BILLING CODE 4910-13-C